DEPARTMENT OF ENERGY

Federal Energy Regulatory Commission

[Project No. 2031-046]

Springville City, Utah; Summary of Teleconference

May 31, 2002.

a. Date and time of Teleconference: Thursday, May 23, 2002, 2:00 PM EDT.

b. FERC Contact: Jim Haimes, project coordinator, at 202-219-2780 or at james.haimes@ferc.gov.

c. Participants: Representatives of the Office of Energy Projects (OEP) who included Edward Abrams, Sean Murphy, Charlene Scott, and Jim Haimes; Matthew Cassel and Jaime Tsandes of Psomas, environmental consultant for the City of Springville, Utah, licensee; and John Logan and Garish Willis, representatives of the Forest Service (FS).

d. Agenda: (1) Introduction; (2) Introduction of Participants; (3) Discussion of Issuance of the Commission's Environmental Assessment (EA) for the relicensing of the Bartholomew Hydroelectric Project (project); (4) Commission Staff's EA Recommendation to Eliminate Preliminary 4(e) Conditions 17, 20, and 21 Submitted by the FS; (4) Scheduling of Final 4(e) Conditions; and (5) Follow-up Actions.

e. Discussion: (1) FS representatives expressed concern that the Commission's EA issued on May 13, 2002, for the relicensing of the project was not a draft EA but rather a final EA. Prior to issuance of this document, the FS expected to have considerably more time than 45 days, the public comment period indicated in the EA, to complete its NEPA and administrative responsibilities necessitated to formulate and obtain a Finding Of No Significant Impact conclusion for its list of final 4(e) conditions.

OEP representatives explained that the Commission's policy regarding EAs has changed; whenever a project relicensing involves minimal conflicts and disputes, Commission staff will issue only one EA rather than draft and final documents. In fact, footnote 5 of the Scoping Document (SD) issued on March 30, 2001, for the subject relicensing indicated as follows:

If there are relatively few comments and recommendations filed in response to this scoping document and our public notice indicating that the subject application is ready for environmental analysis, staff will consolidate the environmental review process by excluding the Draft EA and issuing an EA that provides 45 days for public comment. Any comments filed on the EA would then be considered in the Commission order approving or denying a new license for the Bartholomew Project.

(2) Staff's EA concluded that the FS did not provide adequate support for its:

(1) Condition 17, requiring the City to install continuous recording flow gages and a bypass system at each of its spring collection boxes on FS land; (2) Condition 20, requiring the City to develop a plan to protect federally listed and sensitive plant and wildlife species on FS lands; and (3) Condition 21, requiring the City to develop an avian collision and electrocution hazards plan. Therefore, staff recommends in the EA that the FS exclude these conditions from its list of final 4(e) conditions.

After discussing each of the aforementioned items, the following conclusions and decisions were reached.

(i) Because of a misunderstanding regarding data on flows that are available for diversion to the Upper Bartholomew Powerhouse, the FS originally concluded that the licensee was diverting more than the 10 cubic feet per second (cfs) permitted by the City's existing water rights. The FS now understands that diverted flows do not exceed 10 cfs; therefore, its Condition 17 probably is not needed.

(ii) The FS does not want the licensee to conduct further studies and analysis now regarding the impacts of project operation and maintenance on existing federally listed and FS sensitive species that may be located on project lands within the Uinta National Forest. Instead, the FS wants the Commission to retain the authority to require the licensee to conduct future surveys and analysis for any newly listed or additional FS sensitive species that potentially could be located near project facilities on FS land. Therefore, the FS intends to modify its Condition 20 accordingly.

(iii) Commission staff concludes that, because all portions of project-related electric lines on FS lands are underground, there is inadequate support to include Condition 21, which would require the licensee to develop a plan to protect avians against electrocution and collision with the project's power lines. FS representatives agreed that existing data provided by the licensee indicate that all project-related power lines on FS lands do not pose a hazard to avians.

Nevertheless, FS representatives still are of the opinion that small portions of existing non-project, above ground electric lines operated by the City may cross FS lands. Based on available information, the FS representatives agreed to eliminate Condition 21 from the list of 4(e) conditions. However, they retain the right to require the licensee to conduct additional surveys pursuant to the new FS Special Use Permit to be issued for the project.

f. Follow-up Actions: Psomas will supply the FS with a detailed analysis of the capacity of Springville City's water collection system, which would allow the FS to drop its gaging request. FS representatives stated that they would like to revise this condition to require the City to continue to operate and maintain wildlife watering troughs in the upper portions of the project. Sean Murphy, the OEP biologist assigned to the subject project, will assist John Logan of the FS in drafting appropriate revised language for FS Condition 20.

The meeting participants agreed that the currently required FS conditions would be less costly and more effective if the revisions agreed upon at the teleconference were included in the list of final conditions filed by the FS. FS representatives expressed concern that, under its current policy, the Commission could issue an order providing the City with a new license for the project before the FS provides its list of final 4(e) conditions. OEP representatives discussed the possibility of the FS providing its final 4(e) conditions in an expeditious manner; FS representatives, however, responded that the FS would be unable to provide its final conditions before September 19, 2002.

Linwood A. Watson, Jr.,
Deputy Secretary.

[FR Doc. 02-14184 Filed 6-5-02; 8:45 am]

BILLING CODE 6717-01-P